DEPARTMENT OF EDUCATION

National Advisory Council on Indian Education (NACIE)

AGENCY: U.S. Department of Education.

ACTION: Notice of an open teleconference meeting.

SUMMARY: This notice sets forth the schedule and proposed agenda of an upcoming teleconference meeting of the National Advisory Council on Indian Education (the Council) and is intended to notify the general public of the meeting. This notice also describes the functions of the Council. Notice of the Council's meetings is required under Section 10(a)(2) of the Federal Advisory Committee Act.

Date and time: March 12, 2012—1 p.m.-5 p.m. Eastern Daylight Time.

Location: The meeting will be conducted via conference call with NACIE members. Up to 20 dial-in, listen-only phone lines will be made available to the public on a first come, first serve basis. The conference call number is 1.800.871.9060 and the participant code is 929296858#.

The public is also invited to attend the conference call meeting at the U.S. Department of Education, 400 Maryland Street SW., Room 1W105/108, Washington, DC 20202-6400. Members of the public should report to the security desk and a form of federal I.D. will be required for security clearance and escorted access to the meeting room.

SUPPLEMENTARY INFORMATION: The National Advisory Council on Indian Education is authorized by Section 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program. One of the Council's responsibilities is to develop and provide recommendations to the Secretary of Education on the funding and administration (including the development of regulations, and administrative policies and practices) of any program over which the Secretary has jurisdiction that can benefit Indian children or adults participating in any program which could benefit Indian children. The Council is convening this public meeting to review, advise, and discuss the following items: (1) Recommendations to the Secretary of Education concerning the funding and administration (including the development of regulations and administrative policies and practices) of programs; (2) review the Executive Order 13592 establishing the White House Initiative on American Indian and Alaska Native Education (Initiative); (3) provide input on the draft Memorandum of Understanding between the Department of Education and the Department of the Interior to improve American Indian/Alaska Native education that will take advantage of both Departments' expertise, resources, and facilities, as mandated in the Executive Order; (4) receive an overview of the new State-Tribal Education Partnership Pilot grant program; and (5) discuss and plan for the development of the annual report to Congress.

FOR FURTHER INFORMATION CONTACT: Jenelle Leonard, Designated Federal Official, Office of Elementary and Secondary Education, U.S. Department of Education, 400 Maryland Avenue SW., Washington, DC 20202. Telephone: 202-205-2161. Fax: 202-205-5870.

The meeting site is accessible to individuals with disabilities. If you will need an auxiliary aid or service to participate in the meeting (e.g., interpreting service, assistive listening device, or materials in an alternate format), notify the contact person listed in this notice by March 5, 2012. There will not be an opportunity for public comment during this meeting; however, members of the public are encouraged to submit written comments via email to TribalConsultation@ed.gov.

A report of the meeting activities and related matters that are informative to the public and consistent with the policy of section 5 U.S.C. 552b(c) will be available to the public within 21 days of the meeting. Records are kept of all Council proceedings and are available for public inspection at the at the Office of Indian Education, United States Department of Education, 400 Maryland Avenue SW., Washington, DC 20202. Monday-Friday, 8:30 a.m.-5 p.m. Eastern Daylight Time.

Electronic Access to This Document: You may view this document, as well as all other documents of this Department published in the Federal Register, in text or Adobe Portable Document Format (PDF) on the Internet at the following site: www.ed.gov/news/fedregister/index.html.

To use PDF you must have Adobe Acrobat Reader, which is available free at this site. If you have questions about using PDF, call the U.S. Government Printing Office (GPO), toll free at 1-866-512-1830; or in the Washington, DC, area at (202) 512-0000.

Note: The official version of this document is the document published in the Federal Register. Free Internet access to the official edition of the Federal Register and the Code of Federal Regulations is available on GPO Access at: www.gpoaccess.gov/nara/index.html.

Michael Yudin,
Acting Assistant Secretary, Office of Elementary and Secondary Education.

[FR Doc. 2012-4503 Filed 2-24-12; 8:45 am]

BILLING CODE 4000-01-P